DEPARTMENT OF HOMELAND SECURITY

Customs and Border Protection

Performance Review Board—Appointment of Members

AGENCY: Customs and Border Protection, Department of Homeland Security.

ACTION: General notice.

SUMMARY: This notice announces the appointment of the members of the U.S. Customs and Border Protection Performance Review Boards (PRB's) in accordance with 5 U.S.C. 4314(c)(4). The purpose of the PRB's is to review performance appraisals for senior executives and to make recommendations to the appointing authority regarding proposed performance ratings, bonuses, and other related personnel actions.

EFFECTIVE DATE: November 1, 2003.

FOR FURTHER INFORMATION CONTACT: Robert M. Smith, Assistant Commissioner, Human Resources Management, U.S. Customs and Border Protection, 1300 Pennsylvania Avenue, NW., Room 2.4-A, Washington, DC 20229, Telephone (202) 927-1250.

Background: There are two PRB's in U.S. Customs and Border Protection.

Performance Review Board 1

The purpose of this Board is to review the performance appraisals and proposed related personnel actions for senior executives who report directly to the Deputy Commissioner or the Commissioner of Customs and Border Protection. The members are:

Kay Frances Dolan, Director, Departmental Human Resources Policy, Department of Homeland Security.

John Dooher, Senior Assistant Director, Washington Office, Federal Law Enforcement Training Center, Department of the Treasury.

Carla F. Kidwell, Associate Director for Technology, Bureau of Engraving and Printing, Department of the Treasury.

Kenneth R. Papaj, Deputy Commissioner, Financial Management Service, Department of the Treasury.

Richard Williams, Director, Program Analysis and Evaluation, Department of Homeland Security.

Performance Review Board 2

The purpose of this Board is to review the performance appraisals and proposed related personnel actions for all senior executives except those who report directly to the Deputy Commissioner or the Commissioner of U.S. Customs and Border Protection. The members are:

Assistant Commissioners:

Jayson P. Ahern, Field Operations.

Marjorie L. Budd, Training and Development.

Gustavo DeLaVina, Border Patrol.

William A. Keefer, Internal Affairs.

Dennis H. Murphy, Public Affairs.

John E. Eichelberger, Finance/CFO.

Michael T. Schmitz, Regulations and Rulings.

Robert M. Smith, Human Resources Management.

Deborah J. Spero, Strategic Trade.

Dated: November 13, 2003.
Robert C. Bonner,
Commissioner.

[FR Doc. 03-28809 Filed 11-18-03; 8:45 am]

BILLING CODE 4820-02-P